DEPARTMENT OF HEALTH AND HUMAN SERVICES

National Institutes of Health

Eunice Kennedy Shriver National Institute of Child Health & Human Development; Notice of Meeting

Pursuant to section 10(a) of the Federal Advisory Committee Act, as amended, notice is hereby given of a meeting of the National Advisory Board on Medical Rehabilitation Research. The meeting will be open to the public, with attendance limited to space available. Individuals who plan to attend and need special assistance, such as sign language interpretation or other reasonable accommodations, should notify the Contact Person listed below in advance of the meeting.

Name of Committee: National Advisory Board on Medical Rehabilitation Research.

Date: May 3, 2021.

Time: 10:00 a.m. to 3:00 p.m.

Agenda: NICHD Director's report; NCMRR Director's report; Discussion of NCMRR priorities; Concept Clearance; Telerehabilitation Research Approaches; Health Disparities in Rehabilitation Research; Brief Remarks from Parting Board Members and Selection of New Board Chair; Agenda Planning for Next Board Meeting in December.

Place: National Institutes of Health, Eunice Kennedy Shriver National Institute of Child Health and Human Development, 6710B Rockledge Drive, Bethesda, MD 20892-7510 (Virtual Meeting).

Contact Person: Ralph M. Nitkin, Ph.D., Director, Biological Sciences and Career Development Program, National Center for Medical Rehabilitation Research, Eunice Kennedy Shriver National Institute of Child Health and Human Development, National Institutes of Health, 6710B Rockledge Drive, Room 2116, Bethesda, MD 20892-7510, (301) 402-4206, nitkinr@mail.nih.gov.

The meeting will be NIH Videocast. Please select the following link for Videocast on the day of the meeting: https://videocast.nih.gov/default.asp.

Information is also available on the Institute's/Center's home page: http://www.nichd.nih.gov/about/advisory/nabmrr/Pages/index.aspx where the current roster and minutes from past meetings are posted.

(Catalogue of Federal Domestic Assistance Program Nos. 93.864, Population Research; 93.865, Research for Mothers and Children; 93.929, Center for Medical Rehabilitation Research; 93.209, Contraception and Infertility Loan Repayment Program, National Institutes of Health, HHS)

Dated: March 19, 2021.
Ronald J. Livingston, Jr.,
Program Analyst, Office of Federal Advisory Committee Policy.

[FR Doc. 2021-06112 Filed 3-24-21; 8:45 am]

BILLING CODE 4140-01-P